DEPARTMENT OF HEALTH AND HUMAN SERVICES

Administration for Children and Families

Submission for OMB Review; Child Care and Development Fund Plan Preprint for States/Territories for FFY 2025-2027 (ACF-118) and Extension of Child Care and Development Fund Plan Preprint for States/Territories for FFY 2022-2024 (OMB #0970-0114)

AGENCY: Office of Child Care; Administration for Children and Families; Health and Human Services.

ACTION: Request for public comments.

SUMMARY: The Administration for Children and Families (ACF) is requesting an extension without changes of the form ACF-118: Child Care and Development Fund Plan Preprint for States/Territories for FFY 2022-2024 (OMB #0970-0114, expiration 02/29/2024), and a separate three-year extension of the form ACF-118: Child Care and Development Fund Plan Preprint for States/Territories for FFY 2025-2027. There are changes requested to the form ACF-118: Child Care and Development Fund Plan Preprint for States/Territories for FFY 2025-2027 to improve formatting, collect additional information about program implementation, and streamline questions.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Child Care and Development Fund (CCDF) Plan (the Plan) for States and Territories is required from each CCDF Lead agency in accordance with Section 658E of the Child Care and Development Block Grant Act of 1990 (CCDBG Act), as amended, CCDBG Act of 2014 (Pub. L. 113-186), and 42 U.S.C. 9858. The Plan, submitted on the ACF-118, is required triennially, and remains in effect for three years. The Plan provides ACF and the public with a description of and assurance about the states' and territories' child care programs. These Plans are the applications for CCDF funds.

At this time, the ACF Office of Child Care (OCC) is proposing an extension of the approval of the currently approved CCDF Plan Preprint for FFY 2022-2024 to allow states and territories to continue to submit amendments for substantial program changes effective through September 30, 2024, as required. There are no changes proposed to the FFY 2022-2024 Plan Preprint. In addition, OCC is requesting comments on the proposed CCDF Plan Preprint for FFY 2025-2027. Updates were made to clarify questions, enhance the ability to align data with OCC monitoring data, reflect OCC priorities, ensure alignment with federal requirements, and facilitate grantee submission in the Child Care Automated Reporting System (CARS) data system.

Respondents: State and Territory Lead Agencies.

Annual Burden Estimates
Instrument | Total number of respondents | Total number of responses per respondent | Average burden hours per response | Annual burden hours
Child Care and Development Fund for States and Territories (ACF—118) | 56 | 0.33 | 150 | 2,800

Estimated Total Burden Hours: 8,400; however, since Plans are required triennially, and remain in effect for 3 years, the actual Total Annual Burden Hours is 2,800.

Authority: Pub. L. 113-186 and 42 U.S.C. 9858.

Mary B. Jones,
ACF/OPRE Certifying Officer.

[FR Doc. 2024-01058 Filed 1-19-24; 8:45 am]

BILLING CODE 4184-87-P